DEPARTMENT OF TRANSPORTATION

Federal Highway Administration

Notice of Final Federal Agency Actions on Proposed Highway in California

AGENCY: Federal Highway Administration (FHWA), Department of Transportation (DOT).

ACTION: Notice of Limitation on Claims for Judicial Review of Actions by the California Department of Transportation (Caltrans).

SUMMARY: The FHWA, on behalf of Caltrans, is issuing this notice to announce actions taken by Caltrans, that are final. The actions relate to a proposed highway improvement project along State Route 70 in the County of Yuba, State of California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before January 7, 2021. If the Federal law that authorizes judicial review of a claim provides a time period of less than 150 days for filing such claim, then that shorter time period still applies.

FOR FURTHER INFORMATION CONTACT: For Caltrans: Cara Lambirth, Branch Chief, Caltrans Office of Environmental Management, M-3 California Department of Transportation-District 3, 703 B Street, Marysville, CA 95901. Office Hours: 8:00 a.m.-5:00 p.m., Pacific Standard Time, telephone (530) 741-4549 or email cara.lambirth@dot.ca.gov. For FHWA, contact David Tedrick at (916) 498-5024 or email david.tedrick@dot.gov.

SUPPLEMENTARY INFORMATION: Effective July 1, 2007, FHWA assigned, and the Caltrans assumed, environmental responsibilities for this project pursuant to 23 U.S.C. 327. Notice is hereby given that the Caltrans has taken final agency actions subject to 23 U.S.C. 139(l)(1) by issuing licenses, permits, and approvals for the following highway project in the State of California.

The Caltrans proposes a project along a 9.6-mile portion of State Route 70 (SR 70) from Laurellen Road to Honcut Creek Bridge in Yuba County. The project is intended to improve travel times along the corridor which will result in greater reliability and efficiency for the movement of goods, provide better connectivity between Yuba County and the Sacramento Valley, and support the overall economic viability of the Yuba County region. This project will address operational deficiencies in the corridor, but these improvements improve the overall safety of travelers within the corridor.

The actions by the Federal agencies, and the laws under which such actions were taken, are described in the Final Environmental Assessment (FEA)/Finding of No Significant Impact (FONSI) for the project, issued July 16, 2020, and in other documents in Caltrans' project records. The FEA, FONSI and other project records are available by contacting Caltrans at the addresses provided above. The Caltrans FEA, FONSI and other project records can be viewed and downloaded from the project website at https://dot.ca.gov/caltrans-near-me/district-3/d3-programs/d3-environmental/d3-environmental-docs

This notice applies to all Federal agency decisions as of the issuance date of this notice and all laws under which such actions were taken, including but not limited to:

1. Council on Environmental Quality Regulations

2. National Environmental Policy Act of 1969, as amended, 42 U.S.C. 4321 et seq.

3. Federal-Aid Highway Act of 1970, 23 U.S.C 109

4. MAP-21, the Moving Ahead for Progress in the 21st Century Act (Pub.L. 112-141)

5. Clean Air Act Amendments of 1990 (CAAA)

6. Clean Water Act of 1977 and 1987

7. Federal Water Pollution Control Act of 1972 (see Clean Water Act of 1977 & 1987)

8. Federal Land Policy and Management Act of 1976 (Paleontological Resources)

9. Noise Control Act of 1972

10. Safe Drinking Water Act of 1944, as amended

11. Endangered Species Act of 1973

12. Executive Order 11990, Protection of Wetlands

13. Executive Order 13112, Invasive Species

14. Executive Order 13186, Migratory Birds

15. Fish and Wildlife Coordination Act of 1934, as amended

16. Migratory Bird Treaty Act

17. Water Bank Act Wetlands Mitigation Banks, ISTEA 1991, Sections 1006-1007

18. Wildflowers, Surface Transportation and Uniform Relocation Act of 1987 Section 130

19. Coastal Zone Management Act of 1972

20. Coastal Zone Management Act Reauthorization Amendments Of 1990

21. Executive Order 11988, Floodplain Management

22. Department of Transportation (DOT) Executive Order 5650.2—Floodplain Management and Protection (April 23, 1979)

23. Rivers and Harbors Appropriation Act of 1899, Sections 9 and 10

24. Title VI of the Civil Rights Act of 1964, as amended

25. Executive Order 12898, Federal Actions to Address Environmental Justice and Low-Income Populations

(Catalog of Federal Domestic Assistance Program Number 20.205, Highway Planning and Construction. The regulations implementing Executive Order 12372 regarding intergovernmental consultation on Federal programs and activities apply to this program.)

Authority: 23 U.S.C. 139(l)(1)

Issued on: August 4, 2020.
Rodney Whitfield,
Director, Financial Services, Federal Highway Administration, California Division.

[FR Doc. 2020-17450 Filed 8-7-20; 8:45 am]

BILLING CODE 4910-RY-P